SECURITIES AND EXCHANGE COMMISSION

[Release No. 34-44532; File No. SR-Amex-2001-25]

Self-Regulatory Organizations; American Stock Exchange LLC; Order Granting Approval to Proposed Rule Change Relating to Generic Listing Standards for Portfolio Depositary Receipts and Index Fund Shares

July 10, 2001.

On May 3, 2001, the American Stock Exchange LLC (“Amex”) filed with the Securities and Exchange Commission (“Commission”), pursuant to section 19(b)(1) of the Securities Exchange Act of 1934 (“Act”) ¹ and Rule 19b-4 thereunder,² a proposed rule change to amend Amex Rule 1000, Commentary .03 and Amex Rule 1000A, Commentary .02 regarding generic listing standards for Portfolio Depositary Receipts and Index Fund shares to increase from 25 percent to 30 percent the permissible weight of the most heavily weighted component stock in an underlying index.

¹ 15 U.S.C. 78s(b)(1).

² 17 CFR 240.19b-4.

The proposed rule change was published for comment in the Federal Register on June 4, 2001.³ The Commission received no comments on the proposal.

³ See Securities Exchange Act Release No. 34-44354 (May 25, 2001), 66 FR 30031.

The Commission finds that the proposed rule change is consistent with the requirements of the Act and the rules and regulations thereunder applicable to a national securities exchange ⁴ and, in particular, the requirements of Section 6 of the Act ⁵ and the rules and regulations thereunder. The Commission finds specifically that the proposed rule change is consistent with section 6(b)(5) of the Act ⁶ because it is designed to prevent fraudulent and manipulative acts and practices, to promote just and equitable principles of trade, to foster cooperation and coordination with persons engaged in facilitating transactions in securities, to remove implediments to and perfect the mechanism of a free and open market and a national market system, and, in general, to protect investors and the public interest.

⁴ In approving this proposed rule change, the Commission notes that it has considered the proposed rule' impact on efficiency, competition, and capital formation. 15 U.S.C. 78c(f).

⁵ 15 U.S.C. 78f.

⁶ 15 U.S.C. 78f(b)(5).

It Is Therefore Ordered, pursuant to section 19(b)(2) of the Act,⁷ that the proposed rule change (File No. SR-Amex-2001-25) be, and it hereby is, approved.

⁷ 15 U.S.C. 78s(b)(2).

For the Commission, by the Division of Market Regulation, pursuant to delegated authority.⁸
Margaret H. McFarland,
Deputy Secretary.

⁸ 17 CFR 200.30-3(a)(12).

[FR Doc. 01-17712 Filed 7-13-01; 8:45 am]

BILLING CODE 8010-01-M